DEPARTMENT OF ENERGY

Federal Energy Regulatory Commission

Combined Notice of Filings #1

Take notice that the Commission received the following exempt wholesale generator filings:

Docket Numbers: EG23-13-000.

Applicants: West Line Solar, LLC.

Description: West Line Solar, LLC submits Notice of Self-Certification of Exempt Wholesale Generator Status.

Filed Date: 10/25/22.

Accession Number: 20221025-5065.

Comment Date: 5 p.m. ET 11/15/22.

Take notice that the Commission received the following electric rate filings:

Docket Numbers: ER11-4633-006.

Applicants: Madison Gas and Electric Company.

Description: Notice of Change in Status of Madison Gas and Electric Company.

Filed Date: 10/24/22.

Accession Number: 20221024-5183.

Comment Date: 5 p.m. ET 11/14/22.

Docket Numbers: ER21-281-003.

Applicants: MidAmerican Energy Company.

Description: Tariff Amendment: Response to Deficiency Letter ER21-281 to be effective 1/1/2021.

Filed Date: 10/25/22.

Accession Number: 20221025-5092.

Comment Date: 5 p.m. ET 11/15/22.

Docket Numbers: ER22-2476-001.

Applicants: Arizona Public Service Company.

Description: Tariff Amendment: Response to Deficiency Letter—MOD-030 to be effective 1/11/2023.

Filed Date: 10/25/22.

Accession Number: 20221025-5169.

Comment Date: 5 p.m. ET 11/15/22.

Docket Numbers: ER22-2726-001.

Applicants: AEP Texas Inc.

Description: Tariff Amendment: AEPTX-Electric Transmission Texas Interconnection Agreement—Amend Pending to be effective 7/29/2022.

Filed Date: 10/24/22.

Accession Number: 20221024-5142.

Comment Date: 5 p.m. ET 11/14/22.

Docket Numbers: ER23-8-000.

Applicants: Microgrid Networks LLC.

Description: Supplement to October 4, 2022 Microgrid Networks LLC tariff filing.

Filed Date: 10/20/22.

Accession Number: 20221020-5190.

Comment Date: 5 p.m. ET 11/10/22.

Docket Numbers: ER23-68-001.

Applicants: PJM Interconnection, L.L.C.

Description: Tariff Amendment: Request to Defer Action on Revised ISA, SA No. 1949; Queue No. NQ16 (Amend) to be effective 12/31/9998.

Filed Date: 10/25/22.

Accession Number: 20221025-5094.

Comment Date: 5 p.m. ET 11/15/22.

Docket Numbers: ER23-174-000.

Applicants: Puget Sound Energy, Inc.

Description: § 205(d) Rate Filing: Long-term Point-to-Point Transmission Service Agreement to be effective 11/1/2022.

Filed Date: 10/24/22.

Accession Number: 20221024-5151.

Comment Date: 5 p.m. ET 11/14/22.

Docket Numbers: ER23-175-000.

Applicants: Daggett Solar Power 3 LLC.

Description: Baseline eTariff Filing: Market-Based Rate Application to be effective 12/26/2022.

Filed Date: 10/25/22.

Accession Number: 20221025-5027.

Comment Date: 5 p.m. ET 11/15/22

Docket Numbers: ER23-176-000.

Applicants: Southwest Power Pool, Inc.

Description: § 205(d) Rate Filing: 1067R12 East Texas Electric Cooperative NITSA and NOA to be effective 10/1/2022.

Filed Date: 10/25/22.

Accession Number: 20221025-5049.

Comment Date: 5 p.m. ET 11/15/22.

Docket Numbers: ER23-178-000.

Applicants: Scrubgrass Generating Company, L.P.

Description: Compliance filing: Scrubgrass MBR Tariff Notice of Succession 10-25-22 to be effective 10/26/2022.

Filed Date: 10/25/22.

Accession Number: 20221025-5099.

Comment Date: 5 p.m. ET 11/15/22.

Docket Numbers: ER23-179-000.

Applicants: Citizens Sycamore-Penasquitos Transmission LLC.

Description: § 205(d) Rate Filing: Annual Operating Cost True-Up Adjustment Informational to be effective 1/1/2023.

Filed Date: 10/25/22.

Accession Number: 20221025-5100.

Comment Date: 5 p.m. ET 11/15/22.

Docket Numbers: ER23-180-000.

Applicants: Scrubgrass Generating Company, L.P.

Description: Compliance filing: Scrubgrass Reactive Tariff Notice of Succession 10-25-22 to be effective 10/26/2022.

Filed Date: 10/25/22.

Accession Number: 20221025-5102.

Comment Date: 5 p.m. ET 11/15/22.

Docket Numbers: ER23-181-000.

Applicants: Citizens Sunrise Transmission LLC.

Description: § 205(d) Rate Filing: Annual Operating Cost True-Up Adjustment Informational Filing 2021 to be effective 1/1/2023.

Filed Date: 10/25/22.

Accession Number: 20221025-5108.

Comment Date: 5 p.m. ET 11/15/22.

Docket Numbers: ER23-182-000.

Applicants: Daggett Solar Power 3 LLC.

Description: § 205(d) Rate Filing: SHARED FACILITIES COMMON OWNERSHIP AGREEMENT to be effective 12/26/2022.

Filed Date: 10/25/22.

Accession Number: 20221025-5124.

Comment Date: 5 p.m. ET 11/15/22.

Docket Numbers: ER23-183-000.

Applicants: Southwest Power Pool, Inc.

Description: § 205(d) Rate Filing: 4020 Black Hills Colorado Electric WEIS Market Part. Agr to be effective 11/1/2022.

Filed Date: 10/25/22.

Accession Number: 20221025-5139.

Comment Date: 5 p.m. ET 11/15/22.

Docket Numbers: ER23-184-000.

Applicants: Southwest Power Pool, Inc.

Description: § 205(d) Rate Filing: 4021 Black Hills Power WEIS Market Participant Agreement to be effective 11/1/2022.

Filed Date: 10/25/22.

Accession Number: 20221025-5147.

Comment Date: 5 p.m. ET 11/15/22.

Docket Numbers: ER23-185-000.

Applicants: Public Service Company of Oklahoma.

Description: § 205(d) Rate Filing: PSO-OG&E Cemetery Road Delivery Point Agreement to be effective 10/7/2022.

Filed Date: 10/25/22.

Accession Number: 20221025-5149.

Comment Date: 5 p.m. ET 11/15/22.

Docket Numbers: ER23-186-000.

Applicants: Sonoran West Solar Holdings 2, LLC.

Description: § 205(d) Rate Filing: COC filing to be effective 10/26/2022.

Filed Date: 10/25/22.

Accession Number: 20221025-5153.

Comment Date: 5 p.m. ET 11/15/22.

Docket Numbers: ER23-187-000.

Applicants: Southwest Power Pool, Inc.

Description: § 205(d) Rate Filing: 4022 Cheyenne Light, Fuel and Power Co WEIS Market Part. Agr to be effective 11/1/2022.

Filed Date: 10/25/22.

Accession Number: 20221025-5157.

Comment Date: 5 p.m. ET 11/15/22.

Docket Numbers: ER23-188-000.

Applicants: Southwestern Electric Power Company.

Description: § 205(d) Rate Filing: SWEPCO-GSEC-LHEC Stephen Cruz Delivery Point Agreement to be effective 10/7/2022.

Filed Date: 10/25/22.

Accession Number: 20221025-5158.

Comment Date: 5 p.m. ET 11/15/22.

Docket Numbers: ER23-189-000.

Applicants: PJM Interconnection, L.L.C.

Description: § 205(d) Rate Filing: Original NSA, SA No. 6673; Queue No. H21_W68/K11 to be effective 9/27/2022.

Filed Date: 10/25/22.

Accession Number: 20221025-5165.

Comment Date: 5 p.m. ET 11/15/22.

Take notice that the Commission received the following electric securities filings:

Docket Numbers: ES23-3-000.

Applicants: PacifiCorp.

Description: Application Under Section 204 of the Federal Power Act for Authorization to Issue Securities of PacifiCorp.

Filed Date: 10/24/22.

Accession Number: 20221024-5182.

Comment Date: 5 p.m. ET 11/14/22.

Take notice that the Commission received the following qualifying facility filings:

Docket Numbers: QF23-102-000.

Applicants: San Manuel Utility Authority.

Description: Form 556 of San Manuel Utility Authority.

Filed Date: 10/25/22.

Accession Number: 20221025-5127.

Comment Date: 5 p.m. ET 11/15/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2022.
Debbie-Anne A. Reese,
Deputy Secretary.

[FR Doc. 2022-23649 Filed 10-28-22; 8:45 am]

BILLING CODE 6717-01-P